U.S. SMALL BUSINESS ADMINISTRATION

[Disaster Declaration #12560 and #12561]

Arkansas Disaster Number AR-00048

AGENCY: U.S. Small Business Administration.

ACTION: Amendment 8.

SUMMARY: This is an amendment of the Presidential declaration of a major disaster for the State of Arkansas (FEMA-1975-DR), dated 05/02/2011.

Incident: Severe Storms, Tornadoes, and Associated Flooding.

Incident Period: 04/14/2011 through 06/03/2011.

Effective Date: 06/22/2011.

Physical Loan Application Deadline Date: 08/01/2011.

EIDL Loan Application Deadline Date: 02/02/2012.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Presidential disaster declaration for the State of ARKANSAS, dated 05/02/2011 is hereby amended to include the following areas as adversely affected by the disaster:

Primary Counties: (Physical Damage and Economic Injury Loans): Desha, Carroll, Chicot, Clark, Crawford, Dallas, Hot Spring.

Contiguous Counties: (Economic Injury Loans Only):

Arkansas: Ashley, Calhoun, Nevada, Ouachita, Sebastian.

Louisiana: East Carroll, Morehouse, West Carroll.

Mississippi: Issaquena, Washington.

Missouri: Stone.

Oklahoma: Sequoyah.

All other information in the original declaration remains unchanged.

(Catalog of Federal Domestic Assistance Numbers 59002 and 59008)

Joseph P. Loddo,
Acting Associate Administrator for Disaster Assistance.

[FR Doc. 2011-16529 Filed 6-30-11; 8:45 am]

BILLING CODE 8025-01-P